DEPARTMENT OF DEFENSE

Department of the Army

Board of Visitors, United States Military Academy

AGENCY: Department of the Army, DoD.

ACTION: Notice of open meeting.

SUMMARY: In accordance with section 10(a)(2) of the Federal Advisory Committee Act (Pub. L. 92-463), announcement is made of the following committee meeting:

Name of Committee: Board of Visitors, United States Military Academy.

Date: Wednesday, March 24, 2004.

Place of Meeting: Veteran Affairs Conference Room, Room 418, Senate Russell Office Building, Washington, DC.

Start Time of Meeting: Approximately 10 a.m.

FOR FURTHER INFORMATION CONTACT: Lieutenant Colonel Edward C. Clarke, United States Military Academy, West Point, NY 10996-5000, (845) 938-4200.

SUPPLEMENTARY INFORMATION: Proposed Agenda: Organizational Meeting of the Board of Visitors. Review of the Academic, Military and Physical Programs at the USMA. All proceedings are open.

Luz D. Ortiz,
Army Federal Register Liaison Officer.

[FR Doc. 04-4379 Filed 2-27-04; 8:45 am]

BILLING CODE 3710-08-M